DEPARTMENT OF LABOR

Employment and Training Administration

Comment Request for Information Collection for Unemployment Compensation for Ex-Servicemembers (UCX), Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed. Currently, ETA is soliciting comments concerning the collection of data for the administration of the UCX program.

DATES: Written comments must be submitted to the office listed in the addresses section below on or before November 19, 2012.

ADDRESSES: Submit written comments to Scott Gibbons, Office of Unemployment Insurance, Employment and Training Administration, U.S. Department of Labor, 200 Constitution Avenue NW., Washington, DC 20210. Telephone number: (202) 693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The UCX law (5 U.S.C. 8521-8525) requires State Workforce Agencies (SWAs) to administer the UCX program in accordance with the same terms and conditions of the paying state's unemployment insurance law which apply to unemployed claimants who worked in the private sector. Each state agency needs to obtain certain military service information on claimants filing for UCX benefits to enable the state to determine their eligibility for benefits. As needed, state agencies may record or obtain required UCX information on the form developed by the Department, ETA 843, Request for Military Document and Information. The use of this form is essential to the UCX claims process. Form ETA 841, Request for Determination of Federal Military Service and Wages, is no longer used by most states; it has become an optional form.

Information pertaining to the UCX claimant can only be obtained from the individual's military discharge papers, maintained by the appropriate branch of military service or the Department of Veterans' Affairs (formerly the Veterans' Administration). Without the claimant's military information, the state cannot adequately determine potential UCX eligibility of ex-servicemembers and would not be able to properly administer the program.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submissions of responses.

III. Current Actions

Type of Review: Extension without changes.

Title: Unemployment Compensation for Ex-Servicemembers.

OMB Number: 1205-0176.

Affected Public: State Workforce Agencies.

Form(s): ETA 841, ETA 843.

Total Annual Respondents: 53.

Annual Frequency: As needed.

Estimated Annual Responses: 6,898 for the ETA 843, 260 for the ETA 841.

Average Time per Response: 1 minute.

Estimated Total Annual Burden Hours: 119.3 hours.

Total Annual Burden Cost for Respondents: There are no costs for respondents.

Comments submitted in response to this comment request will be summarized and/or included in the request for OMB approval of the ICR; they will also become a matter of public record.

Dated: Signed in Washington, DC, on this 10th day of September, 2012.
Jane Oates,
Assistant Secretary for Employment and Training, Labor.

[FR Doc. 2012-22933 Filed 9-17-12; 8:45 am]

BILLING CODE 4510-FW-P